DEPARTMENT OF AGRICULTURE

Animal and Plant Health Inspection Service

[Docket No. APHIS-2012-0012]

Secretary's Advisory Committee on Animal Health; Notice of Solicitation for Membership

AGENCY: Animal and Plant Health Inspection Service, USDA.

ACTION: Notice of solicitation for membership.

SUMMARY: We are giving notice that the Secretary is soliciting nominations for membership for this Committee to serve for 2- to 3-year staggered terms.

DATES: Consideration will be given to nominations received on or before July 9, 2012.

ADDRESSES: Completed nomination forms should be sent to the person listed under FOR FURTHER INFORMATION CONTACT.

FOR FURTHER INFORMATION CONTACT: Mrs. R.J. Cabrera, Writing, Editing, and Regulatory Coordination, VS, APHIS, 4700 River Road Unit 35, Riverdale, MD 20737-1231; (301) 851-3478, email: rj.cabrera@aphis.usda.gov.

SUPPLEMENTARY INFORMATION: The Secretary's Advisory Committee on Animal Health (SACAH or the Committee) advises the Secretary of Agriculture on strategies, policies, and programs to prevent, control, or eradicate animal diseases. The Committee considers agricultural initiatives of national scope and significance and advises on matters of public health, conservation of national resources, stability of livestock economies, livestock disease management and traceability strategies, prioritizing animal health imperatives, and other related aspects of agriculture.

The Committee Chairperson and Vice Chairperson are elected by the Committee from among its members.

Terms will expire for the current members of the Committee in August 2012. We are soliciting nominations from interested organizations and individuals. An organization may nominate individuals from within or outside its membership. Nomination forms are available on the Internet at http://www.ocio.usda.gov/forms/doc/AD-755.pdf or may be obtained from the person listed under For Further Information Contact. The Secretary will select members to obtain the broadest possible representation on the Committee, in accordance with the Federal Advisory Committee Act (5 U.S.C. App.2) and U.S. Department of Agriculture (USDA) Regulation 1041-1. Equal opportunity practices, in line with the USDA policies, will be followed in all appointments to the Committee. To ensure that the recommendations of the Committee have taken into account the needs of the diverse groups served by the Department, membership should include, to the extent practicable, individuals with demonstrated ability to represent minorities, women, and persons with disabilities.

Done in Washington, DC, this 18th day of May 2012.
Kevin Shea,
Acting Administrator, Animal and Plant Health Inspection Service.

[FR Doc. 2012-12686 Filed 5-23-12; 8:45 am]

BILLING CODE 3410-34-P